DEPARTMENT OF HOMELAND SECURITY

Coast Guard

[Docket No. USCG-2024-0435]

National Boating Safety Advisory Committee; Vacancies

AGENCY: U.S. Coast Guard, Department of Homeland Security.

ACTION: Notice; request for applications.

SUMMARY: The U.S. Coast Guard is accepting applications to fill fifteen (15) vacancies on the National Boating Safety Advisory Committee (Committee). This Committee advises the Secretary of Homeland Security via the Commandant of the U.S. Coast Guard on matters relating to boating safety. Individuals currently holding these appointments will need to re-apply if they wish to continue as Committee members.

DATES: Complete applications must reach the U.S. Coast Guard on or before October 10, 2024.

ADDRESSES: Applications should be submitted via email with subject line “Application for NBSAC” with the desired membership category to NBSAC@uscg.mil.

Instructions: Applications must include (a) a cover letter expressing interest in an appointment to the National Boating Safety Advisory Committee and detailing their qualifications to serve as a representative in one or more of the identified membership categories (if applying for representative membership), (b) a resume detailing the applicant's relevant experience for the position applied for, and (c) a brief 2-3 paragraph biography written in third-person perspective.

FOR FURTHER INFORMATION CONTACT: Mr. Thomas Guess, Alternate Designated Federal Officer of the National Boating Safety Advisory Committee; telephone 206-815-0221 or email at thomas.e.guess@uscg.mil.

SUPPLEMENTARY INFORMATION: The National Boating Safety Advisory Committee is a Federal advisory committee. The Committee was established by section 601 of the Frank LoBiondo Coast Guard Authorization Act of 2018, (Pub. L. 115-282, 132 Stat. 4192), and is codified in 46 U.S.C. 15105. The Committee operates under the provisions of the Federal Advisory Committee Act, (Pub. L. 117-286, 5 U.S.C. ch. 10), and 46 U.S.C. 15109. The National Boating Safety Advisory Committee provides advice to, consults with, and makes recommendations to the Secretary of Homeland Security, via the Commandant of the U.S. Coast Guard, on matters relating to national recreational boating safety.

The Committee is required to meet at least once a year in accordance with 46 U.S.C. 15109(a). We expect the Committee will hold meetings at least twice a year, but it may meet more frequently.

Under provisions in 46 U.S.C. 15109(f)(6), if you are appointed as a member of the Committee, your membership term will expire on December 31st of the third full year after the effective date of your appointment. Under provisions in 46 U.S.C. 15109(f)(4) the Secretary of Homeland Security may require an individual to have passed an appropriate security background examination before appointment to the Committee.

All members serve at their own expense and receive no salary or other compensation from the Federal Government. The only compensation the members may receive is for travel expenses, including per diem in lieu of subsistence, and actual reasonable expenses incurred in the performance of their direct duties for the Committee in accordance with Federal Travel Regulations. If you are appointed as a member of the Committee, you will be required to sign a Non-Disclosure Agreement and a Gratuitous Services Agreement.

In this solicitation for Committee members, we will consider applications for fifteen (15) positions, which include:

• Three positions as a member representing State officials responsible for State boating safety programs.

• Six positions as a member representing recreational vessel and associated equipment manufacturers.

• Six positions as a member representing the general public or national recreational boating organizations, two of which will represent the general public.

With the exception of the two general public positions, these positions will be appointed as representatives to represent the positions described above and are not Special Government Employees as defined in 18 U.S.C. 202(a).

In order for the Department, to fully leverage broad-ranging experience and education, the National Boating Safety Advisory Committee must be diverse with regard to professional and technical expertise. The Department is committed to pursuing opportunities, consistent with applicable law, to compose a committee that reflects the diversity of the Nation's people.

If you are selected as a member drawn from the general public, you will be appointed and serve as a Special Government Employee as defined in 18 U.S.C. 202(a). Applicants for appointment as a Special Government Employee are required to complete a Confidential Financial Disclosure Report (OGE Form 450) for new entrants and if appointed as a member must submit an OGE Form 450 annually. The U.S. Coast Guard may not release the reports or the information in them to the public except under an order issued by a Federal court or as otherwise provided under the Privacy Act (5 U.S.C. 552a). Only the Designated U.S. Coast Guard Ethics Official or his or her designee may release a Confidential Financial Disclosure Report. Applicants can obtain this form by going to the website of the Office of Government Ethics (www.oge.gov) or by contacting the individual listed above in FOR FURTHER INFORMATION CONTACT.

Registered lobbyists are not eligible to serve on the Committee's subcommittees. This is consistent with DHS Instruction 093-01-001. If at any time after an individual begins service on a subcommittee and registers as federal lobbyist with the Secretary of the U.S. Senate or with the Clerk of the House Representatives, they must immediately inform the Designated Federal Officer (DFO). Members who register as a lobbyist while serving on a subcommittee will be removed.

If you are interested in applying to become a member of the Committee, email your application to NBSAC@uscg.mil as provided in the ADDRESSES section of this notice. Applications for members who will serve to represent the general public must be accompanied by a completed OGE Form 450. Once we receive your application we will send you an email confirming receipt.

The U.S. Coast Guard will not consider incomplete or late applications.

Privacy Act Statement

Purpose: To obtain qualified applicants to fill fifteen (15) vacancies on the National Boating Safety Advisory Committee. When you apply for appointment to the DHS' Boating Safety Advisory Committee, DHS collects your name, contact information, and any other personal information that you submit in conjunction with your application. DHS will use this information to evaluate your candidacy for Committee membership. If you are chosen to serve as a Committee member, your name will appear in publicly available Committee documents, membership lists, and Committee reports.

Authorities: 14 U.S.C. 504; 46 U.S.C. 15105 and 15109; 18 U.S.C. 202(a), and Department of Homeland Security Delegation No. 00915.

Routine Uses: Authorized U.S. Coast Guard personnel will use this information to consider and obtain qualified candidates to serve on the Committee. Any external disclosures of information within this record will be made in accordance with DHS/ALL-009, Department of Homeland Security Advisory Committee (73 FR 57642, October 3, 2008).

Consequences of Failure to Provide Information: Furnishing this information is voluntary. However, failure to furnish the requested information may result in your application not being considered for the Committee.

Dated: September 4, 2024.
Amy M. Beach,
Captain, U.S. Coast Guard, Director of Inspections and Compliance.

[FR Doc. 2024-20283 Filed 9-9-24; 8:45 am]

BILLING CODE 9110-04-P